DEPARTMENT OF THE INTERIOR

Bureau of Land Management

[OR-936-1430-ET; HAG-08-0208; WAOR-42920]

Notice of Proposed Withdrawal Extension and Opportunity for Public Meeting; Washington

AGENCY: Bureau of Land Management, Interior.

ACTION: Notice.

SUMMARY: As required by 43 CFR 2310.3-1, notice is hereby given that on the behalf of the United States Forest Service, the Bureau of Land Management proposes to extend Public Land Order No. 6776 for a 20-year period. This order withdrew approximately 8,950 acres of National Forest System land from surface entry and mining to protect the natural, scenic, and recreational values, and the investment in federal funds in the North Cascades Scenic Highway Zone. The withdrawal created by Public Land Order No. 6776 will expire on April 17, 2010, unless extended. This notice also gives an opportunity to comment on the proposed action and to request a public meeting.

DATES: Effective Date: Comments and requests for a public meeting must be received by December 23, 2008.

ADDRESSES: Comments and meeting requests should be sent to the Oregon/Washington State Director, BLM, P.O. Box 2965, Portland, Oregon 97208-2965.

FOR FURTHER INFORMATION CONTACT: Gregory B. Graham, Okanogan-Wenatchee National Forest, 509-664-9262, or, Charles R. Roy, Bureau of Land Management Oregon/Washington State Office, 503-808-6189.

SUPPLEMENTARY INFORMATION: The United Stated Forest Service has filed an application to extend Public Land Order No. 6776 (55 FR 14422 (1990)) lands from location and entry under the mining laws for a 20 year period, subject to valid existing rights.

The areas described aggregates approximately 8,950 acres in Chelan, Okanogan, Skagit, and Whatcom Counties.

The use of a right-of-way, interagency agreement, or cooperative agreement would not adequately constrain non-discretionary uses and would not provide adequate protection of the Federal investment in the improvements located on the land.

There are no suitable alternative sites with equal or greater benefit to the government.

No additional water rights will be needed to fulfill the purpose of the requested withdrawal.

The preliminary mineral potential evaluation found the above described lands to have a high potential for locatable minerals.

The purpose of the proposed withdrawal extension is to protect the scenic, natural, and recreation values, and the investment of federal funds at the North Cascades Scenic Highway Zone.

For a period of 90 days from the date of publication of this notice, all persons who wish to submit comments, suggestions, or objections in connection with the proposed withdrawal extension may present their views in writing to the State Director at the address indicated above.

Comments, including names and street addresses of respondents, will be available for public review at the address indicated above during regular business hours.

Individual respondents may request confidentiality. Before including your address, phone number, e-mail address, or other personal identifying information in your comment, be advised that your entire comment—including your personal identifying information—may be made publicly available at any time. While you can ask us in your comment to withhold from public review your personal identifying information, we cannot guarantee that we will be able to do so. If you wish to withhold your name or address from public review or from disclosure under the Freedom of Information Act, you must state this prominently at the beginning of your comments. Such requests will be honored to the extent allowed by law. All submissions from organizations or businesses, and from individuals identifying themselves as representatives or officials of organization or businesses, will be made available for public inspection in their entirety.

Notice is hereby given that an opportunity for a public meeting is afforded in connection with the proposed withdrawal extension. All interested parties who desire a public meeting for the purpose of being heard on the proposed withdrawal must submit a written request to the State Director at the address indicated above within 90 days from the publication of this notice. Upon determination by the authorized officer that a public meeting will be held, a notice of the time and place will be published in the Federal Register at least 30 days before the scheduled date of the meeting.

The application will be processed in accordance with the regulations set forth in 43 CFR part 2300.

Fred O'Ferrall,
Chief, Branch of Lands and Mineral Resources.

[FR Doc. E8-22347 Filed 9-23-08; 8:45 am]

BILLING CODE 3410-11-P